DEPARTMENT OF HEALTH AND HUMAN SERVICES

National Institutes of Health

National Institute of Diabetes and Digestive and Kidney Diseases; Amended Notice of Meeting

Notice is hereby given of a change in the meeting of the Fellowships in Diabetes Endocrinology and Metabolic Diseases, October 12, 2023, 10:00 a.m. to October 12, 2023, 07:00 p.m., NIH, 2 Dem, 6707 Democracy Blvd., Bethesda, MD 20892 which was published in the Federal Register on August 21, 2023, 56848.

The meeting notice is amended to change the start date of the meeting from 10/12/2023 to 10/11/2023. The meeting is closed to the public.

Dated: August 31, 2023.
Miguelina Perez,
Program Analyst, Office of Federal Advisory Committee Policy.

[FR Doc. 2023-19264 Filed 9-6-23; 8:45 am]

BILLING CODE 4140-01-P